DEPARTMENT OF COMMERCE

Foreign-Trade Zones Board

[S-71-2018]

Approval of Subzone Status; VF Outdoor, LLC; Ontario, Santa Fe Springs and Corona, California

On May 9, 2018, the Executive Secretary of the Foreign-Trade Zones (FTZ) Board docketed an application submitted by the Port of Long Beach, grantee of FTZ 50, requesting subzone status subject to the existing activation limit of FTZ 50, on behalf of VF Outdoor, LLC, in Ontario, Santa Fe Springs and Corona, California.

The application was processed in accordance with the FTZ Act and Regulations, including notice in the Federal Register inviting public comment (83 FR 22441, May 15, 2018). The FTZ staff examiner reviewed the application and determined that it meets the criteria for approval. Pursuant to the authority delegated to the FTZ Board Executive Secretary (15 CFR Sec. 400.36(f)), the application to establish Subzone 50R was approved on July 10, 2018, subject to the FTZ Act and the Board's regulations, including Section 400.13, and further subject to FTZ 50's 2,000-acre activation limit.

Dated: July 10, 2018.
Elizabeth Whiteman,
Acting Executive Secretary.

[FR Doc. 2018-15113 Filed 7-13-18; 8:45 am]

BILLING CODE 3510-DS-P